DEPARTMENT OF ENERGY

Federal Energy Regulatory Commission

[Project No. 14880-001]

ECOsponsible, LLC; Notice of Preliminary Permit Application Accepted for Filing and Soliciting Comments, Motions To Intervene, and Competing Applications

On June 15, 2018, ECOsponsible, LLC, filed an application for a preliminary permit, pursuant to section 4(f) of the Federal Power Act (FPA), proposing to study the feasibility of hydropower at the Mount Morris Power Dam located on the Genesee River, near the town of Leicester, Livingston County, New York. The sole purpose of a preliminary permit, if issued, is to grant the permit holder priority to file a license application during the permit term. A preliminary permit does not authorize the permit holder to perform any land-disturbing activities or otherwise enter upon lands or waters owned by others without the owners' express permission.

The proposed project would consist of the following: (1) An existing 30-foot-high, 334-foot-long concrete gravity dam; (2) an existing reservoir with a storage capacity of 250 acre-feet at a normal maximum surface elevation of 579.1 feet mean sea level; (3) an existing 16-foot-wide by 30-foot-long concrete masonry powerhouse containing two new submersible turbines each with a rated capacity of 394 kilowatts (kW) (4) a new Hydrodynamic Screw turbine with a rated capacity of 62 kW to be located on the 18-foot-long concrete spillway next to the powerhouse; (5) a new 75-foot-long transmission line connecting the powerhouse to a nearby 15-kilovolt grid interconnection point; and (6) appurtenant facilities. The proposed project would have an average annual generation of 5,700 megawatt-hours.

Applicant Contact: Mr. Dennis Ryan, Manager, ECOsponsible, LLC, P.O. Box 114, West Falls, NY 14170; phone: (716) 222-2188.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14880-001.

More information about this project, including a copy of the application, can be viewed or printed on the “eLibrary” link of the Commission's website at http://www.ferc.gov/docs-filing/elibrary.asp. Enter the docket number (P-14880) in the docket number field to access the document. For assistance, contact FERC Online Support.

Dated: August 22, 2018.
Nathaniel J. Davis, Sr.,
Deputy Secretary.

[FR Doc. 2018-18600 Filed 8-27-18; 8:45 am]

BILLING CODE 6717-01-P